NATIONAL SCIENCE FOUNDATION

Alan T. Waterman Award Committee; Notice of Meeting

In accordance with the Federal Advisory Committee Act (Pub. L. 92-463, as amended), the National Science Foundation (NSF) announces the following meeting:

Name and Committee Code: Alan T. Waterman Award Committee (#1172).

Date and Time: January 31, 2025, 8:30 a.m.-5 p.m. (eastern).

Place: NSF, 2415 Eisenhower Avenue, Alexandria, VA 22314 (Virtual).

Type of Meeting: Closed.

Contact Persons: Gayle Pugh Lev, National Science Foundation, 2415 Eisenhower Avenue, Alexandria, VA 22314; Telephone: 703-292-7589.

Purpose of Meeting: Virtual meeting to provide advice and recommendations in the selection of the Alan T. Waterman Award recipient(s).

Agenda: To review and evaluate nominations as part of the selection process for awards to be granted for the Alan T Waterman Award program.

Reason for Closing: The nominations being reviewed include information of a personal nature where disclosure would constitute unwarranted invasions of personal privacy. These matters are exempt under 5 U.S.C. 552b(c), (6) of the Government in the Sunshine Act.

Dated: November 7, 2024.
Crystal Robinson, Committee Management Officer.

[FR Doc. 2024-26402 Filed 11-13-24; 8:45 am]

BILLING CODE 7555-01-P